DEPARTMENT OF HEALTH AND HUMAN SERVICES

Centers for Disease Control and Prevention

Health Disparities Subcommittee (HDS), Advisory Committee to the Director, Centers for Disease Control and Prevention (ACD, CDC)

In accordance with section 10(a)(2) of the Federal Advisory Committee Act (Pub. L. 92-463), CDC announces the following meeting of the aforementioned subcommittee:

Time and Date: 12 p.m.-1 p.m., April 27, 2011.

Place: Teleconference. To participate, please dial 1-866-816-2692 and enter passcode 9011361 for access.

Status: Open to the public; teleconference access limited only by the availability of telephone ports. The public is welcome to participate during the public comment period, which is tentatively scheduled from 12:55 p.m., until 1 p.m.

Purpose: The Subcommittee will provide advice to the CDC Director through the ACD on strategic and other health disparities and health equity issues and provide guidance on opportunities for CDC.

Matters To Be Discussed: The agenda will include the following: (1) A review of the charge and membership status of the Health Equity Workgroup; (2) an overall Health Equity activities update including the CDC Health Disparities and Inequalities Report, U.S. 2011; the National Prevention Strategy; Healthy People 2020; and Social Determinants of Health Strategy Brief.

The agenda is subject to change as priorities dictate.

Contact Person for More Information: Leandris Liburd, PhD, M.P.H., M.A., Designated Federal Officer, HDS, ACD, CDC, 1600 Clifton Road, NE., Mailstop E-67, Atlanta, Georgia 30333, Telephone: (404) 498-2320, E-mail: LEL1@cdc.gov.

The Director, Management Analysis and Services Office, has been delegated the authority to sign Federal Register notices pertaining to announcements of meetings and other committee management activities, for both the Centers for Disease Control and Prevention and the Agency for Toxic Substances and Disease Registry.

Dated: April 11, 2011.
Elaine L. Baker,
Director, Management Analysis and Services Office, Centers for Disease Control and Prevention.

[FR Doc. 2011-9241 Filed 4-15-11; 8:45 am]

BILLING CODE 4163-18-P